ENVIRONMENTAL PROTECTION AGENCY

40 CFR Parts 60, 61, 62, and 63

[FRL-8563-1]

Change of Address for Submission of Certain Reports; Technical Correction

AGENCY: Environmental Protection Agency (EPA).

ACTION: Final rule; technical amendment.

SUMMARY: EPA is correcting the address for EPA Region VIII in General Provisions of EPA regulations. Certain EPA air pollution control regulations require submittal of notifications, reports, and other documents to the EPA regional office. This technical amendment updates and corrects the address for submitting such information to the EPA Region VIII office.

DATES: Effective Date: This document is effective June 5, 2008.

FOR FURTHER INFORMATION CONTACT: Laurie Ostrand, Air and Toxics Technical Enforcement Program, Environmental Protection Agency (EPA), Region 8, 1595 Wynkoop Street, Denver, Colorado 80202-1129, (303) 312-6437, ostrand.laurie@epa.gov.

SUPPLEMENTARY INFORMATION: Throughout this document, wherever “we” or “our” is used it means the EPA. Section 553 of the Administrative Procedures Act, 5 U.S.C. 553(b)(B), provides that, when an agency for good cause finds that notice and public procedures are impracticable, unnecessary or contrary to the public interest, the agency may issue a rule without providing notice and an opportunity for public comment. We have determined that there is good cause for making today's rule final without prior proposal and opportunity for comment because we are merely correcting EPA Region VIII's address. Thus notice and public procedure are unnecessary. We find that this constitutes good cause under 5 U.S.C. 553(b)(B).

Specifically, EPA is correcting the address for EPA Region VIII in the General Provisions of 40 CFR parts 60, 61, 62, and 63. Certain provisions of 40 CFR parts 60, 61, 62, and 63 regulations require the submittal of notifications, reports, and other documents to the EPA regional office. This technical amendment updates and corrects the address for submitting such information to the EPA Region VIII office.

Statutory and Executive Order Review

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4, 109 Stat. 48 (1995)). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the Executive Order. This rule does not impose an information collection burden under the Paperwork Reduction Act of 1995 (44 U.S.C. 3501 et seq.).

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of June 5, 2008. EPA will submit a report containing this rule and other required information to the U.S. Senate, the U.S. House of Representatives, and the Comptroller General of the United States prior to publication of the rule in the Federal Register. These corrections to the General Provisions of 40 CFR part 63 is not a “major rule” as defined by 5 U.S.C. 804(2).

List of Subjects in 40 CFR Parts 60, 61, 62 and 63

Environmental protection, Air pollution control, Reporting and recordkeeping requirements.

Dated: April 28, 2008.
Carol Rushin,
Acting Regional Administrator, Region 8.

40 CFR parts 60, 61, 62, and 63 are amended as follows:

PART 60—[AMENDED]

1. The authority citation for part 60 continues to read as follows:

Authority: 42 U.S.C. 7401 et seq.

Subpart A—General Provisions

2. Section 60.4 is amended by revising the address for Region VIII in paragraph (a) to read as follows:

§ 60.4 Address.

(a) * * *

Region VIII (Colorado, Montana, North Dakota, South Dakota, Utah, Wyoming) Director, Air and Toxics Technical Enforcement Program, Office of Enforcement, Compliance and Environmental Justice, Mail Code 8ENF-AT, 1595 Wynkoop Street, Denver, CO 80202-1129.

* * * * *

PART 61—[AMENDED]

3. The authority citation for part 61 continues to read as follows:

Authority: 42 U.S.C. 7401 et seq.

Subpart A—General Provisions

4. Section 61.04 is amended by revising the address for Region VIII in paragraph (a) to read as follows:

§ 61.04 Address.

(a) * * *

Region VIII (Colorado, Montana, North Dakota, South Dakota, Utah, Wyoming) Director, Air and Toxics Technical Enforcement Program, Office of Enforcement, Compliance and Environmental Justice, Mail Code 8ENF-AT, 1595 Wynkoop Street, Denver, CO 80202-1129.

* * * * *

PART 62—[AMENDED]

5. The authority citation for part 62 continues to read as follows:

Authority: 42 U.S.C. 7401 et seq.

Subpart A—General Provisions

6. In § 62.10 the table is amended by revising the entry for Region VIII to read as follows:

§ 62.10 Submission to Administrator.

* * * * *

Region and jurisdiction covered | Address
* * * * * * *
VIII—Colorado, Montana, North Dakota, South Dakota, Utah, Wyoming | Director, Air Program, Office of Partnerships and Regulatory Assistance, Mail Code 8P-AR, 1595 Wynkoop Street, Denver, CO 80202-1129
* * * * * * *

PART 63—[AMENDED]

7. The authority citation for part 63 continues to read as follows:

Authority: 42 U.S.C. 7401 et seq.

Subpart A—General Provisions

8. Section 63.13 is amended by revising the address for Region VIII in paragraph (a) to read as follows:

§ 63.13 Addresses of State air pollution control agencies and EPA Regional Offices.

(a) * * *

EPA Region VIII (Colorado, Montana, North Dakota, South Dakota, Utah, Wyoming) Director, Air and Toxics Technical Enforcement Program, Office of Enforcement, Compliance and Environmental Justice, Mail Code 8ENF-AT, 1595 Wynkoop Street, Denver, CO 80202-1129.

* * * * *

[FR Doc. E8-9963 Filed 5-5-08; 8:45 am]

BILLING CODE 6560-50-P